DEPARTMENT OF HEALTH AND HUMAN SERVICES

Announcement of Requirements and Registration for “Lifeline Facebook App Challenge”; Correction

AGENCY: Office of the Assistant Secretary for Preparedness and Response, HHS.

ACTION: Correction notice.

SUMMARY: This document corrects a technical error that appeared in the notice published in the August 10, 2011 Federal Register entitled, Announcement of Requirements and Registration for “Lifeline Facebook App Challenge”.

DATES: This correction is effective August 15, 2011.

FOR FURTHER INFORMATION CONTACT: Stacy Elmer, 202-205-4246.

I. Background

In FR Doc. 2011-20296, there was a technical error that we are identifying and correcting in the “Correction of Errors” section below. The provisions in this correction notice are effective as if they had been included in the document published August 10, 2011. Accordingly, the corrections are effective August 15, 2011.

II. Summary of Errors

In the August 10, 2011 notice (76 FR 49485/FR Doc. 2011-20296) an award approving official is named, additional eligibility requirements have been added to the section entitled “Eligibility Rules for Participating in the Competition”. A new section, entitled “Payment of Prize”, has also been added and the date period during which applications will be accepted has been changed to August 22, 2011 through November 4, 2011.

III. Correction of Errors

In FR Doc. 2011-20296 of August 10, 2011 (76 FR 49485) make the following corrections:

1. On page 49485, in column 2, between the “Agency” and “Action” lines, add the following: Award Approving Official: Stacy Elmer, Special Assistant to the Assistant Secretary for Preparedness and Response.

2. On page 49486, in column 1, between lines 49 and 50, insert the following:

(4) Shall not be an HHS employee working on their applications or submission during assigned duty hours.

(5) Shall not be an employee of the Assistant Secretary for Preparedness and Response.

(6) Federal grantee may not use Federal funds to develop COMPETES Act challenge applications unless consistent with the purpose of their grant award and specifically requested to do so due to competition design.

(7) Federal contractors may not use Federal funds from a contract to develop COMPETES Act challenge applications or to fund efforts in support of a COMPETES Act challenge submission.

(8) Shall have complied with all the requirements under this section.

3. On page 49486, in column 2, line 44, change to “Dates: Submission period for initial entries begins 12:01 am, EDT, August 22nd, 2011, and ends 11:59 pm, EDT, November 4th, 2011”.

4. On page 49486, in column 2, between lines 64 and 65, insert the following:

Payment of Prize

Prizes awarded under this competition will be paid by electronic funds transfer and may be subject to Federal income taxes. HHS will comply with the Internal Revenue Service withholding and reporting requirements, where applicable.

Dated: August 10, 2011.
Nicole Lurie,
Assistant Secretary for Preparedness and Response (ASPR).

[FR Doc. 2011-20760 Filed 8-12-11; 8:45 am]

BILLING CODE 4150-37-P